DEPARTMENT OF HOMELAND SECURITY

Federal Emergency Management Agency

44 CFR Part 65

[Docket No. FEMA-D-7567]

Changes in Flood Elevation Determinations

AGENCY: Federal Emergency Management Agency (FEMA), Emergency Preparedness and Response Directorate, Department of Homeland Security.

ACTION: Interim rule.

SUMMARY: This interim rule lists communities where modification of the Base (1% annual chance) Flood Elevations (BFEs) is appropriate because of new scientific or technical data. New flood insurance premium rates will be calculated from the modified BFEs for new buildings and their contents.

DATES: These modified BFEs are currently in effect on the dates listed in the table and revise the Flood Insurance Rate Map(s) (FIRMs) in effect prior to this determination for each listed community.

From the date of the second publication of these changes in a newspaper of local circulation, any person has ninety (90) days in which to request through the community that the Director reconsider the changes. The modified elevations may be changed during the 90-day period.

ADDRESSES: The modified BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: The modified BFEs are not listed for each community in this interim rule. However, the address of the Chief Executive Officer of the community where the modified BFE determinations are available for inspection is provided.

Any request for reconsideration must be based upon knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in BFEs are in accordance with 44 CFR 65.4.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, floodplains, reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as shown below:

State and county | Location | Dates, and name of newspaper where notice was published | Chief executive officer of community | Effective date of modification | Community No.
Alabama: Colbert | City of Muscle Shoals | December 10, 2004; December 17, 2004; Times Daily | The Honorable David H. Bradford, Mayor of the City of Muscle Shoals, P.O. Box 2624, Muscle Shoals, Alabama 35662 | November 30, 2004 | 010047 C
Connecticut:
Fairfield | Town of Greenwich | December 6, 2004; December 13, 2004; Greenwich Time | Mr. Jim Lash, Town of Greenwich First Selectman, Town Hall, 101 Field Point Road, Greenwich, Connecticut 06830 | November 23, 2004 | 090008 C
New Haven | Town of Madison | January 12, 2005; January 19, 2005; Shore Line Times | Mr. Thomas S. Scarpati, First Selectman of the Town of Madison, 8 Campus Drive, Madison, Connecticut 06443 | December 27, 2004 | 090079 C
Florida:
Duval | City of Jacksonville | October 22, 2004; October 29, 2004; The Florida Times-Union | The Honorable John Peyton, Mayor of the City of Jacksonville, City Hall at St. James, 4th Floor, 117 West Duval Street, Suite 400, Jacksonville, Florida 32202 | October 15, 2004 | 120077 E
Lake | Unincorporated Areas | November 17, 2004; November 24, 2004; Orlando Sentinel | Mr. William A. Neron, Lake County Manager, P.O. Box 7800, Tavares, Florida 32778 | November 4, 2004 | 120421 D
Lake | Unincorporated Areas | December 10, 2004; December 17, 2004; Orlando Sentinel | Mr. William A. Neron, Lake County Manager, P.O. Box 7800, Tavares, Florida 32778 | March 16, 2005 | 120421 D
Polk | City of Lake Wales | November 17, 2004; November 24, 2004; The News Chief | Mr. Tony Otte, Lake Wales City Manager, P.O. Box 1320, Lake Wales, Florida 33859 | February 23, 2005 | 120390 G
Polk | Unincorporated Areas | November 17, 2004; November 24, 2004; The News Chief | Mr. Michael Herr, Polk County Manager, P.O. Box 9005, Drawer BC 01, Bartow, Florida 33831-9005 | February 23, 2005 | 120261 G
Sarasota | City of Sarasota | January 14, 2004; January 24, 2004; Sarasota Herald-Tribune | Mr. Michael A. McNees, Sarasota City Manager, 1565 First Street, Room 101, Sarasota, Florida 34236 | January 7, 2005 | 125150 B
St. Johns | Unincorporated Areas | October 22, 2004; October 29, 2004; The St. Augustine Record | Mr. Ben W. Adams, II, St. Johns County Administrator, 4020 Lewis Speedway, St. Augustine, Florida 32084 | October 13, 2004 | 125147 H
Georgia:
Cherokee | Unincorporated Areas | October 29, 2004; November 5, 2004; Cherokee Tribune | Mr. Michael Byrd, Chairman of the Cherokee County, Board of Commissioners, 90 North Street, Suite 310, Canton, Georgia 30114 | October 20, 2004; | 130424 B
Dekalb | Unincorporated Areas | December 23, 2004; December 30, 2004; The Champion | Mr. Vernon Jones, Chief Executive Officer of Dekalb County, 1300 Commerce Drive, Decatur, Georgia 30030 | December 14, 2004 | 130065 H
Bibb and Jones | City of Macon | October 29, 2004; November 5, 2004; The Macon Telegraph | The Honorable C. Jack Ellis, Mayor of the City of Macon, 700 Poplar Street, Macon, Georgia 31201 | February 4, 2005 | 130011 D,E
Bulloch | City of Statesboro | November 4, 2004; November 11, 2004; Statesboro Herald | The Honorable William Hatcher, Mayor of the City of Statesboro, P.O. Box 348, Statesboro, Georgia 30459-0348 | February 10, 2005 | 130021 C
Kentucky | Lexington-Fayette Urban County Government | August 18, 2004; August 25, 2004; Lexington Herald-Leader | The Honorable Teresa Isaac, Mayor of the Lexington-Fayette, Urban County Government, Lexington-Fayette Government Building, 200 East Main Street, 12th Floor, Lexington, Kentucky 40507 | November 24, 2004 | 210067 C
| Lexington-Fayette Urban County Government | November 5, 2004; November 12, 2004; Lexington Herald-Leader | The Honorable Teresa Isaac, Mayor of the Lexington-Fayette, Urban County Government, Lexington-Fayette Government Building, 200 East Main Street, 12th Floor, Lexington, Kentucky 40507 | October 28, 2004 | 210067 C
Massachusetts:
Norfolk | Town of Foxborough | January 19, 2005; January 26, 2005; Foxborough Report | Mr. Robert Hickey, Chairman of the Town of Foxborough Board of Selectmen, 40 South Street, Foxborough, Massachusetts 02035 | January 12, 2005 | 250239 B
Norfolk | City of Quincy | January 14, 2005; January 21, 2005; The Patriot Ledger | The Honorable William J. Phelan, Mayor of the City of Quincy, 1305 Hancock Street, Quincy, Massachusetts 02169 | April 22, 2005 | 255219 B
New York:
Erie | Town of Lancaster | November 25, 2004; December 2, 2004; The Lancaster Bee | Mr. Robert H. Giza, Supervisor of the Town of Lancaster, 21 Central Avenue, Lancaster, New York 14086 | May 17, 2005 | 360249 C
Erie | Village of Lancaster | November 25, 2004; December 2, 2004; The Lancaster Bee | The Honorable William G. Cansdale, Jr., Mayor of the Village of Lancaster, 5423 Broadway, Lancaster, New York 14086 | May 17, 2005 | 360248 C
North Carolina:
Craven | Unincorporated Areas | January 14, 2005; January 21, 2005; The Sun Journal | Mr. George N. Brown, Jr., Chairman of the Craven County, Board of Commissioners, 406 Craven Street, New Bern, North Carolina 28560 | January 4, 2005 | 450182 C
Haywood | Unincorporated Areas | January 10, 2005; January 17, 2005; The Mountaineer | Mr. Jack Horton, Haywood County Manager, 215 North Main Street, Waynesville, North Carolina 28786 | April 18, 2005 | 370120 B
Surry | City of Mount Airy | August 9, 2004; August 16, 2004; Mount Airy News | The Honorable Jack A. Loftis, Mayor of the City of Mount Airy, P.O. Box 70, Mount Airy, North Carolina 27030 | August 2, 2004 | 370226 C
Lee | City of Sanford | November 5, 2004; November 12, 2004; The Sanford Herald | The Honorable Winston C. Hester, Mayor of the City of Sanford, P.O. Box 3729, Sanford, North Carolina 27331-3729 | February 11, 2005 | 370143 B
Tennessee:
Decatur | Unincorporated Areas | October 26, 2004; November 2, 2004; The News-Leader | The Honorable Kenneth Broadway, Mayor of Decatur County, P.O. Box 488, Decaturville, Tennessee 38329 | February 1, 2005 | 470041 C
Henry | Unincorporated Areas | November 8, 2004; November 15, 2004; The Paris Post-Intelligencer | The Honorable Brent Greer, Mayor of Henry County, P.O. Box 7, Paris, Tennessee 38242 | February 14, 2005 | 470228 D
Texas: Tarrant | City of Southlake | October 14, 2004; October 21, 2004; Fort Worth Star Telegram | The Honorable Andy Wambsganss, Mayor of the City of Southlake, 1400 Main Street, Suite 270, Southlake, Texas 76092 | October 7, 2004 | 480612 H
Virginia: Fauquier | Town of Warrenton | October 28, 2004; November 4, 2004; Fauquier Citizen | The Honorable George B. Fitch, Mayor of the Town of Warrenton, Municipal Building, 18 Court Street Warrenton, Virginia 20186 | February 3, 2004 | 510057 A
West Virginia: Mingo | Unincorporated Areas | November 26, 2004; December 3, 2004; The Williamson Daily News | Mr. Jim Hatfield, President of the Mingo County, Board of Commissioners, P.O. Box 1197, Williamson, West Virginia 25661 | November 16, 2004 | 540133 C

(Catalog of Federal Domestic Assistance No. 83.100, “Flood Insurance”)
Dated: February 18, 2005.
David I. Maurstad,
Acting Director, Mitigation Division, Emergency Preparedness and Response Directorate.

[FR Doc. 05-3776 Filed 2-25-05; 8:45 am]

BILLING CODE 9110-12-P